DEPARTMENT OF HOUSING AND URBAN DEVELOPMENT

[Docket No. FR-4723-C-2D]

FY 2002 Super Notice of Funding Availability (SuperNOFA) for HUD's Discretionary Grants Programs for Fiscal Year 2002; Notice of Extension of Application Deadline

AGENCY: Office of the Secretary, HUD.

ACTION: Super Notice of Funding Availability (SuperNOFA) for HUD's discretionary grant programs; notice of extension of application deadline.

SUMMARY: On March 26, 2002, HUD published its Fiscal Year (FY) 2002 Super Notice of Funding Availability (SuperNOFA) for HUD's discretionary grant programs. This notice extends the application due date for applicants in Charles, Dorchester and Calvert counties, Maryland (designated as disaster areas as the result of tornados) and in McDowell, Mercer, Mingo, Logan and Wyoming counties, West Virginia (designated as disaster areas as the result of severe storms, flooding, and landslides) who are seeking funding under the Continuum of Care Homeless Assistance Programs-Supportive Housing Program (SHP), Shelter Plus Care (S+C), Section 8 Moderate Rehabilitation Room Occupancy Program for Homeless Individuals (SRO).

DATES: The application due date for the Continuum of Care Homeless Assistance Programs—Supportive Housing Program (SHP), Shelter Plus Care (S+C), and Section 8 Moderate Rehabilitation Room Occupancy Program for Homeless Individuals (SRO) programs for applicants located in the Federally designated disaster areas has been extended to July 19, 2002. For all other applicants for this funding, the due date remains June 21, 2002.

FOR FURTHER INFORMATION CONTACT: For the programs affected by this notice, please contact the office or individual listed under the FOR FURTHER INFORMATION heading in the individual program section of the SuperNOFA, published on March 26, 2002 at 67 FR13826.

SUPPLEMENTARY INFORMATION: On March 26, 2002 (67 FR 13826), HUD published its Fiscal Year (FY) 2002 Super Notice of Funding Availability (SuperNOFA) for HUD's discretionary grant programs. The FY 2002 SuperNOFA announced the availability of approximately $2.2 billion in HUD program funds covering 41 grant categories within programs operated and administered by HUD offices. This notice published in today's Federal Register extends the application due date for the Continuum of Care Homeless Assistance Programs-Supportive Housing Program (SHP), Shelter Plus Care (S+C), and Section 8 Moderate Rehabilitation Room Occupancy Program for Homeless Individuals (SRO) programs for applicants located in counties declared disaster areas by the Federal Emergency Management Agency (FEMA) declarations FEMA-1409-DR and FR-1410-DR. Specifically, these declarations cover Charles, Dorchester and Calvert counties, Maryland and McDowell, Mercer, Mingo, Logan and Wyoming counties, West Virginia. Any additional counties designated as federal disaster areas under FEMA-1409-DR or FR-1410-DR will be posted on HUD's web page (www.hud.gov) and published by Federal Emergency Management Agency (FEMA) in the Federal Register. For all other applicants for this funding, the application due date of June 21, 2002 remains unchanged.

Dated: June 17, 2002.
Donna M. Abbenante,
General Deputy Assistant Secretary for Community Planning and Development.

[FR Doc. 02-15645 Filed 6-17-02; 4:31 pm]

BILLING CODE 4210-29-P